OFFICE OF PERSONNEL MANAGEMENT

5 CFR Part 890

RIN 3206-AO48

DEPARTMENT OF THE TREASURY

Internal Revenue Service

26 CFR Part 54

[REG-122319-22]

RIN 1545-BQ55

DEPARTMENT OF LABOR

Employee Benefits Security Administration

29 CFR Part 2590

RIN 1210-AC17

DEPARTMENT OF HEALTH AND HUMAN SERVICES

Centers for Medicare & Medicaid Services

45 CFR Part 149

[CMS-9897-N]

RIN 0938-AV15

Federal Independent Dispute Resolution Operations; Reopening of Comment Period

AGENCY: Office of Personnel Management; Internal Revenue Service, Department of the Treasury; Employee Benefits Security Administration, Department of Labor; Centers for Medicare & Medicaid Services, Department of Health and Human Services.

ACTION: Proposed rules; reopening of comment period.

SUMMARY: This document reopens the comment period for the proposed rules entitled “Federal Independent Dispute Resolution Operations” that appeared in the November 3, 2023, issue of the Federal Register. The comment period for the proposed rules, which closed on January 2, 2024, is reopened from January 22, 2024 to February 5, 2024.

DATES: The comment period for the proposed rules published November 3, 2023, at 88 FR 75744, is reopened. To be assured consideration, comments must be received at one of the addresses provided below, no later than February 5, 2024.

ADDRESSES: Written comments may be submitted to the addresses specified below. Any comment that is submitted will be shared among the Department of the Treasury, the Department of Labor, the Department of Health and Human Services (the Departments), and the Office of Personnel Management. Please do not submit duplicates.

Comments will be made available to the public. Warning: Do not include any personally identifiable information (such as name, address, or other contact information) or confidential business information that you do not want publicly disclosed. All comments are posted on the internet exactly as received and can be retrieved by most internet search engines. No deletions, modifications, or redactions will be made to the comments received, as they are public records. Comments may be submitted anonymously.

In commenting, please refer to file code RIN 0938-AV15. Because of staff and resource limitations, the Departments cannot accept comments by facsimile (FAX) transmission.

Comments, including mass comment submissions, must be submitted in one of the following three ways (please choose only one of the ways listed):

1. Electronically. You may submit electronic comments on this regulation to https://www.regulations.gov. Follow the “Submit a comment” instructions.

2. By regular mail. You may mail written comments to the following address ONLY: Centers for Medicare & Medicaid Services, Department of Health and Human Services, Attention: CMS-9897-P, P.O. Box 8016, Baltimore, MD 21244-8016.

Please allow sufficient time for mailed comments to be received before the close of the comment period.

3. By express or overnight mail. You may send written comments to the following address ONLY: Centers for Medicare & Medicaid Services, Department of Health and Human Services, Attention: CMS-9897-P, Mail Stop C4-26-05, 7500 Security Boulevard, Baltimore, MD 21244-1850.

For information on viewing public comments, see the beginning of the SUPPLEMENTARY INFORMATION section.

FOR FURTHER INFORMATION CONTACT: Padma Babubhai Shah, Office of Personnel Management, at 202-606-4056; Shira B. McKinlay, Internal Revenue Service, Department of the Treasury, at 202-317-5500; Elizabeth Schumacher or Shannon Hysjulien, Employee Benefits Security Administration, Department of Labor, at 202-693-8335; Zarah Ghiasuddin or Bryan Kirk, Centers for Medicare & Medicaid Services, Department of Health and Human Services, at 301-492-4308.

Customer Service Information: Information from the Office of Personnel Management (OPM) on health benefits plans offered under the Federal Employees Health Benefits (FEHB) Program can be found on the OPM website (https://www.opm.gov/healthcare-insurance/healthcare/). Individuals interested in obtaining information from the Department of Labor (DOL) concerning employment-based health coverage laws may call the Employee Benefits Security Administration (EBSA) Toll-Free Hotline at 1-866-444-EBSA (3272) or visit the DOL's website (www.dol.gov/agencies/ebsa). In addition, information from the Department of Health and Human Services (HHS) on private health insurance coverage and coverage provided by non-Federal governmental group health plans can be found on the Centers for Medicare & Medicaid Services (CMS) website (https://www.cms.gov/marketplace), information on health care reform can be found at https://www.healthcare.gov, and information on surprise medical bills can be found at https://www.cms.gov/nosurprises.

SUPPLEMENTARY INFORMATION: The Departments of the Treasury, Labor, and HHS (collectively, the Departments) and the Office of Personnel Management (OPM) published proposed rules entitled “Federal Independent Dispute Resolution Operations,” which appeared in the Federal Register on November 3, 2023 (88 FR 75744). In the proposed rules, the Departments and OPM proposed requirements related to the Federal independent dispute resolution (IDR) process established under the No Surprises Act, including new requirements for disclosing information along with the initial payment or notice of denial of payment for certain items and services subject to the surprise billing protections in the No Surprises Act and when initiating the Federal IDR process and the provision of certain Claim Adjustment Reason Codes (CARCs) and Remittance Advice Remark Codes (RARCs) with paper or electronic remittances. Additionally, those proposed rules would define bundled payment arrangements and would amend certain requirements related to the open negotiation period, initiation of the Federal IDR process, eligibility determinations, batched disputes, extensions due to extenuating circumstances, selection of the certified IDR entity, and the collection of administrative fees and certified IDR entity fees. Lastly, the proposed rules would require plans and issuers to register in the Federal IDR portal.

The Departments published the final rules entitled “Federal Independent Dispute Resolution Process Administrative Fee and Certified IDR Entity Fee Ranges” (the IDR Fees final rules), which appeared in the Federal Register on December 21, 2023 (88 FR 88494). The IDR Fees final rules amend existing regulations to provide that the administrative fee amount charged by the Departments to participate in the Federal IDR process and the ranges for certified IDR entity fees will be established by the Departments in notice and comment rulemaking. The preamble to the IDR Fees final rules also sets forth the methodology used to calculate the administrative fee and the considerations used to develop the certified IDR entity fee ranges. The IDR Fees final rules also finalize the amount of the administrative fee and the certified IDR entity fee ranges for disputes initiated on or after the effective date of the IDR Fees final rules.

In addition, the preamble to the IDR Fees final rules addresses how changes in that rulemaking relate to the proposals contained in the Federal Independent Dispute Resolution Operations proposed rules, for which the comment period closed on January 2, 2024. To provide additional time for interested parties to consider and comment on any implications of the IDR Fees final rules, the Departments and OPM are reopening the comment period on the Federal Independent Dispute Resolution Operations proposed rules for all comments from January 22, 2024 to February 5, 2024. To be assured consideration, comments on the proposed rules must be received no later than February 5, 2024.

Laurie Bodenheimer,
Associate Director, Healthcare and Insurance, Office of Personnel Management.
Douglas W. O'Donnell,
Deputy Commissioner for Services and Enforcement, Internal Revenue Service.
Lisa M. Gomez,
Assistant Secretary, Employee Benefits Security Administration, Department of Labor.
Xavier Becerra,
Secretary, Department of Health and Human Services.

[FR Doc. 2024-01072 Filed 1-17-24; 4:15 pm]

BILLING CODE 4120-01-P; 6325-6-P; 4830-01-P; 4510-29-P